DEPARTMENT OF ENERGY

Federal Energy Regulatory Commission

[Docket No. CP20-459-000]

Golden Pass LNG Terminal LLC; Notice of Schedule for Environmental Review of The Golden Pass Amendment Project

On May 21, 2020, Golden Pass LNG Terminal LLC (Golden Pass LNG) filed an application in Docket No. CP20-459-000 requesting a limited amendment to its December 21, 2016 Order under Docket No. CP14-517-000 that granted Golden Pass LNG authority to site, construct, and operate facilities for the exportation of liquefied natural gas (LNG). Golden Pass LNG proposes to increase the total LNG production capacity of the Golden Pass Export Project in Jefferson County, Texas. The proposed project is known as the Golden Pass Amendment Project (Project).

On May 28, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 6, 2020

90-day Federal Authorization Decision Deadline—February 4, 2021

If a schedule change becomes necessary, additional notice will be provided so that the relevant agencies are kept informed of the Project's progress.

Project Description

The Project would increase the authorized LNG production capacity of Golden Pass LNG's facilities currently under construction from 15.6 million metric tons per annum (MTPA) to 18.1 MTPA. The Project LNG capacity increasewould not require any additional facility construction. Golden Pass LNG states the increase is based on a recalculation of the maximum design LNG production capability of the facilities. Golden Pass LNG would coordinate with the U.S. Coast Guard regarding any potential increases in marine traffic due to the capacity increase.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-459), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 25, 2020.
Nathaniel J. Davis, Sr.,
Deputy Secretary.

[FR Doc. 2020-19102 Filed 8-28-20; 8:45 am]

BILLING CODE 6717-01-P